DEPARTMENT OF HOMELAND SECURITY

Coast Guard

[Docket No. USCG-2012-0212]

Navigation Safety Advisory Council

AGENCY: Coast Guard, DHS.

ACTION: Notice of Federal Advisory Committee Meeting.

SUMMARY: The Navigation Safety Advisory Council (NAVSAC) will meet on April 17-18, 2012, in Arlington, Virginia to discuss matters relating to maritime collisions, ramming, groundings, Inland and International Rules of the Road, navigation regulations and equipment, routing measures, marine information, diving safety, and aids to navigation systems. The meeting will be open to the public.

DATES: NAVSAC will meet Tuesday, April 17, 2012, from 8 a.m. to 5 p.m., and Wednesday, April 18, 2012, from 8 a.m. to 5 p.m. Please note that the meeting may close early if the committee has completed its business. Pre-registration and written comments are due April 13, 2012.

ADDRESSES: The meeting will be held at the Navy League Building, Coast Guard Recruiting Command, 5th floor conference room, 2300 Wilson Boulevard, Suite 500, Arlington, Virginia 20598. All visitors to the Navy League Building must pre-register to be admitted to the building. You may pre-register by contacting the individual listed in FOR FURTHER INFORMATION CONTACT below.

For information on facilities or services for individuals with disabilities or to request special assistance at the meeting, contact the individual listed in the FOR FURTHER INFORMATION CONTACT as soon as possible.

To facilitate public participation, we are inviting public comment on the issues to be considered by the committee as listed in the “Agenda” section below. You may submit written comments no later than April 13, 2012, and must be identified by USCG-2012-0212 using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov. A public comment period will be held during the meeting on April 17, 2012, from 3 p.m. to 4 p.m. and April 18, 2012 prior to the close of the meeting. Public presentations may also be given. Speakers are requested to limit their comments to 10 minutes. Please note that the public comment period may end before the time indicated, following the last call for comments. Contact the individual listed below to register as a speaker.

FOR FURTHER INFORMATION CONTACT: If you have questions about this meeting, please contact Mr. Mike Sollosi, the NAVSAC Alternate Designated Federal Officer (ADFO), at telephone 202-372-1545 or email mike.m.sollosi@uscg.mil, or Mr. Dennis Fahr, at telephone 202-372-1531 or email dennis.fahr@uscg.mil. If you have questions on viewing or submitting material to the docket, call Renee V. Wright, Program Manager, Docket Operations, telephone 202-366-9826.

SUPPLEMENTARY INFORMATION: Notice of this meeting is given under the Federal Advisory Committee Act (FACA), 5 U.S.C. App. 2 (Pub. L. 92-463).

The NAVSAC is an advisory committee authorized by 33 U.S.C. 2073 and chartered under the provisions of the FACA. NAVSAC provides advice and recommendations to the Secretary, through the Commandant of the U.S. Coast Guard, on matters relating to prevention of maritime collisions, rammings, and groundings, Inland and International Rules of the Road, navigation regulations and equipment, routing measures, marine information, diving safety, and aids to navigation systems.

Agenda

The NAVSAC will meet to review, discuss and formulate recommendations on the following topics:

Tuesday, April 17, 2012

(1) Update on all past Resolutions to the Council.

The Council will receive an update on the status of all outstanding resolutions and decide disposition as appropriate.

(2) Navigation Rules Regulatory Project.

The Council will receive an update on the Coast Guard's progress toward implementing NAVSAC proposed changes to the Inland Navigation Rules.

(3) E-Navigation Strategy.

Under the auspices of the Committee on the Marine Transportation System, the Coast Guard and other agencies have developed a National e-Navigation Strategy that will establish a framework for data exchange between and among ships and shore facilities. The Council will receive an update and discuss the implementation plan for the Strategy.

(4) Electronic Chart Display and Information System (ECDIS) Anomalies.

Mandatory carriage of ECDIS will be phased in over a six year period beginning in 2012. This series of presentations will inform the Council of developments and difficulties encountered in deploying ECDIS, including accuracy of charted positions, the types of vessels to be impacted, and training requirements for ECDIS.

(5) Navigation 2040 and the aid mix of the future.

The Council will receive a briefing on the determination of the future mix of visual and electronic Aids to Navigation (ATON).

(6) Automatic Identification System(AIS) ATON Symbols.

The Council will receive a briefing and comment on proposed chart symbols for new electronic Aids to Navigation.

(7) Atlantic Coast Ports Access Route Study (ACPARS).

The Council will receive a briefing on the ACPARS undertaken to accommodate offshore wind energy development.

(8) Form Council working groups to discuss the preceding topics as appropriate.

Public comments or questions will be taken at the discretion of the DFO during the discussion and recommendations portion of the meeting as well as during the public comment period.

Wednesday, April 18, 2012

(1) Working Group Discussions continued from April 17.

(2) Working Group Reports presented to the Council.

(3) New Business:

a. International Maritime Organization (IMO) Safety Navigation Subcommittee.

The Coast Guard will update the Council on recent decisions and planned outputs of the IMO Safety Navigation Subcommittee.

b. Summary of NAVSAC Action Items.

c. Schedule Next Meeting Date—Fall 2012.

d. Committee discussion/address of new tasks.

(4) A public comment period will be held after the discussion/address of new tasks. Speakers' comments are limited to 10 minutes each. Public comments or questions will be taken at the discretion of the DFO during the discussion and recommendations, and new business portion of the meeting.

Dated: March 23, 2012.
Dana A. Goward,
Director, Marine Transportation Systems Management, U.S. Coast Guard.

[FR Doc. 2012-7627 Filed 3-29-12; 8:45 am]

BILLING CODE 9110-04-P